DEPARTMENT OF AGRICULTURE

Animal and Plant Health Inspection Service

[Docket No. APHIS-2007-0081]

Notice of Request for Reinstatement of an Information Collection; Beef 2007-08 Study

AGENCY: Animal and Plant Health Inspection Service, USDA.

ACTION: Reinstatement of an information collection; comment request.

SUMMARY: In accordance with the Paperwork Reduction Act of 1995, this notice announces the Animal and Plant Health Inspection Service's intention to request a reinstatement of an information collection to support the National Animal Health Monitoring System national Beef 2007-08 Study.

DATES: We will consider all comments that we receive on or before September 11, 2007.

ADDRESSES: You may submit comments by either of the following methods:

Federal eRulemaking Portal: Go to http://www.regulations.gov, select “Animal and Plant Health Inspection Service” from the agency drop-down menu, then click “Submit.” In the Docket ID column, select APHIS-2007-0081 to submit or view public comments and to view supporting and related materials available electronically. Information on using Regulations.gov, including instructions for accessing documents, submitting comments, and viewing the docket after the close of the comment period, is available through the site's “User Tips” link.

Postal Mail/Commercial Delivery: Please send four copies of your comment (an original and three copies) to Docket No. APHIS-2007-0081, Regulatory Analysis and Development, PPD, APHIS, Station 3A-03.8, 4700 River Road, Unit 118, Riverdale, MD 20737-1238. Please state that your comment refers to Docket No. APHIS-2007-0081.

Reading Room: You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: For information on the Beef 2007-08 Study, contact Ms. Sandra Warnken, Management and Program Analyst, Centers for Epidemiology and Animal Health, VS, APHIS, 2150 Centre Avenue, Building B MS 2E6, Fort Collins, CO 80526; (970) 494-7193. For copies of more detailed information on the information collection, contact Mrs. Celeste Sickles, APHIS' Information Collection Coordinator, at (301) 734-7477.

SUPPLEMENTARY INFORMATION: Title: National Animal Health Monitoring System; Beef 2007-08 Study.

OMB Number: 0579-0079.

Type of Request: Reinstatement of an information collection.

Abstract: The United States Department of Agriculture is responsible for protecting the health of our Nation's livestock and poultry populations by preventing the introduction and interstate spread of serious diseases and pests of livestock and for eradicating such diseases from the United States when feasible. In connection with this mission, the Animal and Plant Health Inspection Service (APHIS) operates the National Animal Health Monitoring System (NAHMS), which collects, on a national basis, statistically valid and scientifically sound data on the prevalence and economic importance of livestock and poultry disease risk factors.

NAHMS national studies have evolved into a collaborative industry and government initiative to help determine the most effective means of preventing and controlling diseases of livestock. APHIS is the only agency responsible for collecting national data on livestock health. Participation in any NAHMS study is voluntary, and all data are confidential.

APHIS plans to conduct the Beef 2007-08 Study as part of an ongoing series of NAHMS studies on the U.S. livestock population. The purpose of this third beef study is to collect information, through questionnaires and biologic sampling, to:

Describe trends in beef cow-calf health and management practices.

Evaluate management factors related to beef quality assurance.

Describe recordkeeping practices on cow-calf operations.

Determine producer awareness of bovine viral diarrhea (BVD) and management practices used for BVD control.

Describe current biosecurity practices and producer motivation for implementing or not implementing biosecurity practices.

Determine the prevalence and antimicrobial resistance patterns of potential food-safety pathogens.

This information will help the United States detect trends in the management, production, and health status of the Nation's beef industry over time.

The study will consist of a series of on-farm questionnaires, with biologic sampling, which will be administered by APHIS-designated data collectors. The information collected through the Beef 2007-08 Study will be analyzed and organized into descriptive reports. Information sheets will be derived from these reports, and the data will be disseminated to and used by a variety of constituents, including producers, veterinarians, stakeholders, academia, and others. The data will help APHIS address emerging issues and examine the economic impact of selected health management practices.

We are asking the Office of Management and Budget (OMB) to approve our use of these information collection activities for 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 1.645403 hours per response.

Respondents: Beef producers in 24 States.

Estimated annual number of respondents: 4,000.

Estimated annual number of responses per respondent: 1.936.

Estimated annual number of responses: 7,744.

Estimated total annual burden on respondents: 12,742 hours. (Due to averaging, the total annual burden hours may not equal the product of the annual number of responses multiplied by the reporting burden per response.)

All responses to this notice will be summarized and included in the request for OMB approval. All comments will also become a matter of public record.

Done in Washington, DC, this 29th day of June 2007.
Kevin Shea,
Acting Administrator, Animal and Plant Health Inspection Service.

[FR Doc. E7-13652 Filed 7-12-07; 8:45 am]

BILLING CODE 3410-34-P